ENVIRONMENTAL PROTECTION AGENCY

[ER-FRL-6654-7]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 574-7167. An explanation of the ratings assigned to draft environmental impact statements (EISs) was published in the Federal Register dated April 2, 2004 (69 FR 17403).

Draft EISs

ERP No. D-FHW-G40182-AR Rating LO, I-69 Section of Independent Utility 13 EL Dorado to McGehee, Construction of Four-Lane Divided Access Facility, U.S. Coast Guard Bridge Permit, NPDES Permit, and U.S. Army COE Section 404 Permit, Ouachita River, Ouachita, Union, Calhoun, Bradley Drew and Desha Counties, AR.

Summary: EPA has no objection to the selection of the preferred alternative.

ERP No. D-HUD-K60034-CA Rating LO, Marysville Hotel Demolition Project, Proposed Acquisition and Demolition of Building, City of Marysville, Yuba County, CA.

Summary: EPA has no objection to the proposed project. EPA requested that the Final EIS address the new 8-hour ozone National Ambient Air Quality Standard (NAAQS).

ERP No. D-NPS-L65458-ID Rating LO, Craters of the Moon National Monument and Preserve, Update and Consolidate Management Plans into One Comprehensive Plan, Snake River Plain, Blaine, Butte, Lincoln and Minidoka Counties, ID.

Summary: EPA supports Alternative D, but recommended including additional information for identifying and managing water resources and cultural resources.

ERP No. DA-FHW-C40129-NY Rating EC2, NY-9A Reconstruction Project, West Thames Street to Chambers Street in Lower Manhattan the Result of September 11, 2001 Attack, Lower Manhattan Redevelopment, New York County, NY.

Summary: EPA has environmental concerns with the impacts to air quality and requests additional analysis of the cumulative impacts to air quality (NOX and VOC). EPA also asked more information be provided regarding: traffic analyses; hazardous materials; and mitigation proposals and commitments.

Final EISs

ERP No. F-AFS-J65362-MT Pipestone Timber Sale and Restoration Project, Timber Harvest, Prescribed Fire Burning, Watershed Restoration and Associated Activities, Kootenai National Forest, Libby Ranger District, Lincoln Lincoln County, MT.

Summary: EPA expressed lack of objection to the proposed action. However, EPA believes that minor changes to the proposal would provide for additional opportunities to apply water quality mitigation measures.

ERP No. F-AFS-L65435-ID Mission Brush Project, Proposes Vegetation, Wildlife Habitat, Recreation and Aquatic Improvement Treatments, Idaho Panhandle National Forests, Bonners Ferry Ranger District, Bounty County, ID.

Summary: EPA continues to express environmental concerns with the potential impacts to water temperature and increased sediment loading on streams; potential increase in invasive species; adverse impacts to regional biodiversity; and cumulative impacts.

ERP No. F-COE-K36138-AZ El Rio Antiguo Feasibility Study, Ecosystem Restoration along the Rillito River, Pima County, AZ.

Summary: No comment letter was sent to the preparing agency.

ERP No. F-FHW-D40314-MD MD-97 Brookeville Project Improvements and Preservation, South of Gold Mine Road to North of Holliday Drive, Funding and U.S. Army Corps of Engineers Section 10 and 404 Permits Issuance, Montgomery County, MD.

Summary: The final EIS adequately addressed EPA's comments.

ERP No. F-FRC-K05228-CA Pit 3, 4, 5 Hydroelectric Project, (FERC No. 233-081), Application for New License, Pit River, Pit River Basin, Shasta-Trinity National Forest and Lassen National Forest, Shasta County, CA.

Summary: No comment letter was sent to the preparing agency.

ERP No. F-NPS-K65253-CA Whiskeytown Fire Management Plan, Implementation, Whiskeytown National Recreation Area, Klamath Mountains, Shasta County, CA.

Summary: EPA expressed no objection to the proposed action.

Dated: August 10, 2004.
B. Katherine Biggs,
Associate Director, Office of Federal Activities.

[FR Doc. 04-18541 Filed 8-12-04; 8:45 am]

BILLING CODE 6560-50-P